DEPARTMENT OF ENERGY

Federal Energy Regulatory Commission

Combined Notice of Filings #1

Take notice that the Commission received the following electric corporate filings:

Docket Numbers: EC17-79-000.

Applicants: American Transmission Company LLC, Duke-American Transmission Company, LLC, ATC Management Inc.

Description: Application for Authorization for Corporate Reorganization and Request for Confidential Treatment and Certain Waivers of American Transmission Company LLC, et. al.

Filed Date: 2/14/17.

Accession Number: 20170214-5214.

Comments Due: 5 p.m. ET 3/7/17.

Take notice that the Commission received the following exempt wholesale generator filings:

Docket Numbers: EG17-60-000.

Applicants: RE Tranquillity 8 Amarillo LLC.

Description: Notice of Self-Certification of Exempt Wholesale Generator Status of RE Tranquillity 8 Amarillo LLC.

Filed Date: 2/15/17.

Accession Number: 20170215-5061.

Comments Due: 5 p.m. ET 3/8/17.

Docket Numbers: EG17-61-000.

Applicants: RE Tranquillity 8 Azul LLC.

Description: Notice of Self-Certification of Exempt Wholesale Generator Status of RE Tranquillity 8 Azul LLC.

Filed Date: 2/15/17.

Accession Number: 20170215-5063.

Comments Due: 5 p.m. ET 3/8/17.

Docket Numbers: EG17-62-000.

Applicants: RE Tranquillity 8 Rojo LLC.

Description: Notice of Self-Certification of Exempt Wholesale Generator Status of RE Tranquillity 8 Rojo LLC.

Filed Date: 2/15/17.

Accession Number: 20170215-5067.

Comments Due: 5 p.m. ET 3/8/17.

Docket Numbers: EG17-63-000.

Applicants: RE Tranquillity 8 Verde LLC.

Description: Notice of Self-Certification of Exempt Wholesale Generator Status of RE Tranquillity 8 Verde LLC.

Filed Date: 2/15/17.

Accession Number: 20170215-5069.

Comments Due: 5 p.m. ET 3/8/17.

Take notice that the Commission received the following electric rate filings:

Docket Numbers: ER10-1437-005; ER10-2732-013; ER10-2733-013; ER10-2734-013; ER10-2736-013; ER10-2737-013; ER10-2741-013; ER10-2749-013; ER10-2752-013; ER12-2492-009; ER12-2493-009; ER12-2494-009; ER12-2495-009; ER12-2496-009; ER16-2455-003; ER16-2456-003; ER16-2457-003; ER16-2458-003; ER16-2459-003.

Applicants: Tampa Electric Company, Emera Energy Services Inc., Emera Energy U.S. Subsidiary No. 1, Inc, Emera Energy U.S. Subsidiary No. 2, Inc., Emera Energy Services Subsidiary No. 1 LLC, Emera Energy Services Subsidiary No. 2 LLC, Emera Energy Services Subsidiary No. 3 LLC, Emera Energy Services Subsidiary No. 4 LLC, Emera Energy Services Subsidiary No. 5 LLC, Emera Energy Services Subsidiary No. 6 LLC, Emera Energy Services Subsidiary No. 7 LLC, Emera Energy Services Subsidiary No. 8 LLC, Emera Energy Services Subsidiary No. 9 LLC, Emera Energy Services Subsidiary No. 10 LLC, Emera Energy Services Subsidiary No. 11 LLC, Emera Energy Services Subsidiary No. 12 LLC, Emera Energy Services Subsidiary No. 13 LLC, Emera Energy Services Subsidiary No. 14 LLC, Emera Energy Services Subsidiary No. 15 LLC.

Description: Notice of Change in Status of the Emera Entities.

Filed Date: 2/15/17.

Accession Number: 20170215-5095.

Comments Due: 5 p.m. ET 3/8/17.

Docket Numbers: ER17-259-002.

Applicants: Darby Power, LLC.

Description: Compliance filing: Darby Power, LLC Reactive Service Compliance Filing to be effective1/30/2017.

Filed Date: 2/14/17.

Accession Number: 20170214-5174.

Comments Due: 5 p.m. ET 3/7/17.

Docket Numbers: ER17-260-002.

Applicants: Gavin Power, LLC.

Description: Compliance filing: Gavin Power, LLC Reactive Service Compliance Filing to be effective1/30/2017.

Filed Date: 2/14/17.

Accession Number: 20170214-5179.

Comments Due: 5 p.m. ET 3/7/17.

Docket Numbers: ER17-261-002.

Applicants: Lawrenceburg Power, LLC.

Description: Compliance filing: Lawrenceburg Power, LLC Reactive Service Compliance Filing to be effective 1/30/2017.

Filed Date: 2/14/17.

Accession Number: 20170214-5185.

Comments Due: 5 p.m. ET 3/7/17.

Docket Numbers: ER17-262-002.

Applicants: Waterford Power, LLC.

Description: Compliance filing: Waterford Power, LLC Reactive Service Compliance Filing to be effective 1/30/2017.

Filed Date: 2/14/17.

Accession Number: 20170214-5190.

Comments Due: 5 p.m. ET 3/7/17.

Docket Numbers: ER17-386-001.

Applicants: New York Independent System Operator, Inc.

Description: Compliance filing: NYISO compliance: Remove emissions controls from peaking plant design to be effective 1/17/2017.

Filed Date: 2/15/17.

Accession Number: 20170215-5011.

Comments Due: 5 p.m. ET 3/8/17.

Docket Numbers: ER17-549-001.

Applicants: New York Independent System Operator, Inc.

Description: Compliance filing: NYISO compliance re: Effective date for revised fixed block unit pricing logic to be effective 2/28/2017.

Filed Date: 2/14/17.

Accession Number: 20170214-5138.

Comments Due: 5 p.m. ET 3/7/17.

Docket Numbers: ER17-884-001.

Applicants: Niagara Mohawk Power Corporation, New York Independent System Operator, Inc.

Description: Tariff Amendment: NMPC amendment filing re: Corrections to TSC formula rate template to be effective 4/1/2017.

Filed Date: 2/15/17.

Accession Number: 20170215-5018.

Comments Due: 5 p.m. ET 3/8/17.

Docket Numbers: ER17-971-000.

Applicants: PJM Interconnection, L.L.C.

Description: § 205(d) Rate Filing: Original Service Agreement No. 4629; Queue No. AB2-097 to be effective 1/23/2017.

Filed Date: 2/15/17.

Accession Number: 20170215-5017.

Comments Due: 5 p.m. ET 3/8/17.

Docket Numbers: ER17-972-000.

Applicants: PJM Interconnection, L.L.C.

Description: § 205(d) Rate Filing: Original Service Agreement No. 4622; Queue No. AB2-045 to be effective 1/26/2017.

Filed Date: 2/15/17.

Accession Number: 20170215-5038.

Comments Due: 5 p.m. ET 3/8/17.

Docket Numbers: ER17-973-000.

Applicants: Southwest Power Pool, Inc.

Description: § 205(d) Rate Filing: Revisions to Attachment O Reflecting the Current ITPNT Schedule to be effective 4/16/2017.

Filed Date: 2/15/17.

Accession Number: 20170215-5084.

Comments Due: 5 p.m. ET 3/8/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 15, 2017.
Nathaniel J. Davis, Sr.,
Deputy Secretary.

[FR Doc. 2017-03411 Filed 2-21-17; 8:45 am]

BILLING CODE 6717-01-P